ENVIRONMENTAL PROTECTION AGENCY

40 CFR Part 745

[EPA-HQ-OPPT-2004-0126; FRL-7690-8]

Lead Hazard Information Pamphlet; Notice of Availability

AGENCY: Environmental Protection Agency (EPA).

ACTION: Notice of availability.

SUMMARY: This notice announces the availability of EPA's new lead hazard information pamphlet for renovation activities, Protect Your Family from Lead During Renovation, Repair & Painting, for review and comment. There is an increased risk of lead-based paint poisoning during renovation activities, particularly to children under 6 years of age. To better inform families about the risks and to encourage greater public health and safety during renovation activities in target housing, EPA has developed a renovation-specific information pamphlet for families. This new pamphlet gives information on lead-based paint hazards in a home, lead testing, how to select a contractor, what precautions to take during the renovation, and proper cleanup activities. EPA is seeking comment on all aspects of the pamphlet's content and design. After reviewing the comments, EPA will publish a final version of the pamphlet that may be used to comply with the requirements of section 406(b) of the Toxic Substances Control Act (TSCA).

DATES: Comments, identified by docket identification (ID) number EPA-HQ-OPPT-2004-0126, must be received on or before April 7, 2006.

ADDRESSES: Submit your comments, identified by docket ID number EPA-HQ-OPPT-2004-0126, by one of the following methods:

• Federal eRulemaking Portal: http://www.regulations.gov/. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2004-0126. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2004-0126. EPA's policy is that all comments received will be included in the public docket without change and may be made available in the on-line docket at http://www.regulations.gov, including any personal information provided, unless the comment includes information claimed to be Confidential Business Information (CBI) or other information whose disclosure is restricted by statute. Do not submit information that you consider to be CBI or otherwise protected through regulations.gov, or e-mail. The regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the docket index at http://www.regulations.gov/. Although listed in the index, some information is not publicly available, i.e., CBI or other information whose disclosure is restricted by statute. Certain other material, such as copyrighted material, is not placed on the Internet and will be publicly available only in hard copy form. Publicly available docket materials are available either electronically in the online docket at http://www.regulations.gov/ or in hard copy at the OPPT Docket, EPA Docket Center, EPA West, Rm. B102, 1301 Constitution Ave., NW., Washington, DC. The Public Reading Room is open from 8:30 a.m. to 4:30 p.m., Monday through Friday, excluding legal holidays. The EPA Docket Center Reading Room telephone number is (202) 566-1744, and the telephone number for the OPPT Docket, which is located in the EPA Docket Center, is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Joshua B. Novikoff, National Program Chemicals Division (7404T), Office of Pollution Prevention and Toxics, Environmental Protection Agency, 1200 Pennsylvania Ave., NW., Washington, DC 20460-0001; telephone number: (202) 566-0502; e-mail address: novikoff.joshua@epa.gov.

SUPPLEMENTARY INFORMATION:

I. General Information

A. Does This Action Apply to Me?

You may be potentially affected by this action if you perform renovations in target housing for compensation. Target housing is defined as any housing constructed prior to 1978, except housing for the elderly or persons with disabilities (unless any child who is less than 6 years of age resides or is expected to reside in such housing) or any 0-bedroom dwelling (40 CFR 745.103). Potentially affected entities may include, but are not limited to:

• Renovators (NAICS 236118), e.g., general building contractors/operative builders, renovation firms, individual contractors.

• Special trade contractors, e.g., carpenters (NAICS 38350), painters (NAICS 238320), drywall workers and lathers (NAICS 238310), home improvement contractors.

• Landlords (NAICS 561110), e.g., multi-family housing property management firms and owners.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 745.82. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity, obscene language, or personal threats.

viii. Make sure to submit your comments by the comment period deadline.

II. What Action Is the Agency Taking?

A. Development of a New Pamphlet

EPA has determined that there is a need for a new information pamphlet that addresses renovation-specific lead exposure concerns. Existing regulations at 40 CFR part 745, subpart E, require each person who performs a renovation for compensation of target housing (as defined under 40 CFR 745.103) to provide a lead hazard information pamphlet to owners and occupants of such housing prior to commencing the renovation. These regulations implement TSCA section 406(b). The pamphlet currently used, Protect Your Family from Lead in Your HomeROW was developed under the Congressional mandate in section 406(a) of TSCA.

Renovation activities create an increased risk of lead-based paint poisoning, particularly to children under 6 years of age, and the renovation-specific pamphlet will better inform families about such risks and encourage greater public health and safety during renovation activities in target housing. This new pamphlet gives information on lead-based paint hazards in a home, lead testing, how to select a contractor, what precautions to take during the renovation, and proper cleanup activities, while still incorporating the information already included in the original pamphlet and mandated in section 406(a) of TSCA.

In addition, EPA plans to modify Protect Your Family from Lead During Renovation, Repair, & Painting to provide information on new requirements to minimize the introduction of lead hazards resulting from the disturbance of lead-based paint during renovation, repair, and painting activities in most housing built before 1978. EPA proposed these requirements, Lead; Renovation, Repair, and Painting Program, in the Federal Register of January 10, 2006 (71 FR 1588) (FRL-7755-5). The proposal introduces lead training, certification, and safe work practice requirements for contractors involved in renovation, repair, and painting activities. The proposal would also modify the existing regulations at 40 CFR part 745, subpart E, that implement TSCA section 406(b) to require the distribution of this new pamphlet instead of the current pamphlet, Protect Your Family from Lead in Your Home. In the preamble to the proposal, EPA stated that it would also be publishing this Federal Register notice to announce the availability of Protect Your Family from Lead During Renovation, Repair, & Painting for notice and comment.

The Renovation, Repair, and Painting Program proposed rule, issued under the authority of TSCA section 402(c)(3), would require that renovators are trained in the use of lead safe work practices, that renovators and firms are certified, that providers of renovation training are accredited, and that renovators follow renovation work practice standards. The standards would apply to all persons who do renovation for compensation, including renovation contractors, maintenance workers in multi-family housing, painters, and contractors in other specialty trades.

The following are examples of work practices described in the proposal:

• Renovations would be performed by certified firms.

• Certified firms would use certified renovators to perform certain activities and would provide on-the-job-training for uncertified workers.

• Firms would post signs clearly defining the work area and warning occupants and other persons not involved in renovation activities to remain outside of the work area.

• Before beginning the renovation, the firm would isolate the work area so that no visible dust or debris leaves the work area while the renovation is being performed.

• Waste from renovation activities would be contained to prevent releases of dust and debris.

• After the renovation is complete, the firm would clean the work area. A certified renovator may verify the cleanliness of the work area using a procedure involving disposable cleaning cloths.

The proposed rule would apply to housing with lead-based paint built before 1978. EPA is proposing a two-phased approach, with the first phase focusing on rental and owner-occupied housing built before 1978 where a child has an increased blood lead level, in rental housing built before 1960 and in owner-occupied housing built before 1960 where children under age 6 reside. The second phase would apply to renovations in rental housing built between 1960 and 1978 and to owner-occupied housing built after 1960 and before 1978 where children under age 6 reside.

You may submit comments on the Renovation, Repair, and Painting Program proposed rule, identified by Docket ID number EPA-HQ-OPPT-2005-0049, online through the Federal eRulemaking Portal: http://www.regulations.gov. Follow the on-line instructions for submitting comments. Other methods for submitting comments are also described in the proposed rule.

B. Request for Comments

EPA is seeking public comment on all aspects of the new pamphlet's design. This includes the tone of the pamphlet, and the extent to which the current wording and design tend to support (or undermine) its effectiveness as an educational tool. One issue that EPA has considered is the need to balance technical accuracy with clarity and freedom from overly technical jargon. The extent to which the current draft is clear and understandable is of primary concern to the Agency. In addition, EPA is particularly interested in how helpful the pamphlet is compared to the old pamphlet and how appropriately it addresses renovation-specific issues.

In designing the layout of the pamphlet, EPA has been aware of the need to develop a dynamic and engaging document while ensuring that the pamphlet can be easily and inexpensively reprinted. This approach has led the Agency to incorporate a layout and illustrations that anchor many of the pamphlet's key points while providing visual interest. EPA requests comment on whether the draft images may be altered in any way to increase their effectiveness.

In addition to soliciting public input through this notice, EPA conducted focus tests to obtain feedback on the draft pamphlet's current reading level, content, and graphic presentation. EPA conducted these tests during the spring of 2004 in Washington, DC and Arlington, VA. The tests consisted of written survey questions and moderated group discussions and were conducted with a group of homeowners and separately with a group of contractors. The focus tests proved valuable in providing overall impressions of the draft pamphlet's strengths and weaknesses. As a direct result of the feedback, EPA made revisions to clarify the intended audience and goal of the pamphlet and strengthen the message that renovation and remodeling work can be done safely if done properly. Revisions included highlighting the significance of lead dust; clarifying the message about the likelihood of the presence of lead, the responsibilities of contractors, and testing options; and better describing what constitutes lead safe work practices.

After reviewing the comments submitted in response to this notice, EPA will publish a final version of the pamphlet. The final version may be used to comply with the requirements of section 406(b) of the Toxic Substances Control Act (TSCA).

III. References

Reference 1 is available from the National Lead Information Clearinghouse (NLIC) at 1-800-424-LEAD or TDD: 1-800-526-5456 or the EPA Public Information Center at (202) 260-2080 and from the Internet at www.epa.gov/lead/leadprot.htm. Both references are available via http://www.regulations.gov/ and can also be viewed in person at the EPA Docket Center.

1. U.S. Environmental Protection Agency, U.S. Consumer Product Safety Commission, and U.S. Department of Housing and Urban Development. Protect Your Family from Lead in Your Home. U.S. Government Printing Office, Washington, DC. June 2003.

2. U.S. Environmental Protection Agency, U.S. Consumer Product Safety Commission, and U.S. Department of Housing and Urban Development. Protect Your Family from Lead During Renovation, Repair & Painting draft pamphlet. U.S. Government Printing Office, Washington, DC. 2005.

List of Subjects in 40 CFR Part 745

Environmental protection, Housing renovation, Lead, Lead-based paint, Reporting and recordkeeping requirements.

Dated: March 1, 2006.
Susan B. Hazen,
Acting Assistant Administrator, Office of Prevention, Pesticides and Toxic Substances
.

[FR Doc. E6-3283 Filed 3-7-06; 8:45 am]

BILLING CODE 6560-50-S